DEPARTMENT OF JUSTICE

Drug Enforcement Administration

Agency Information Collection Activities: Proposed Collection; Comments Requested

ACTION: 60-Day emergency notice of information collection under review: National drug-related death reporting system.

The Drug Enforcement Administration (DEA) has submitted the following information collection request to the Office of Management and Budget (OMB) for review and clearance in accordance with emergency review procedures of the Paperwork Reduction Act of 1995. OMB approval has been requested by DEA. The proposed information collection is published to obtain comments from the public and affected agencies. If granted, the emergency approval is only valid for 180 days. Comments should be directed to OMB, Office of Information and Regulatory Affairs, Attention: Department of Justice Desk Officer, Washington, DC 20503. Comments are encouraged and will be accepted until July 1, 2005.

During the first 60 days of this same review period, a regular review of this information collection is also being undertaken. All comments and suggestions, or questions regarding additional information, to include obtaining a copy of the proposed information collection instrument with instructions, should be directed to Christine Sannerud, Ph.D., Chief, Drug and Chemical Evaluation Section, Office of Diversion Control, Drug Enforcement Administration, Washington, DC 20537.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information:

(1)Type of information collection: New collection.

(2)The title of the form/collection: National Drug-Related Death Reporting System.

(3)The agency form number, if any, and the applicable component of the department sponsoring the collection: Form Number: None. Office of Diversion Control, Drug Enforcement Administration, United States Department of Justice.

(4) Affected public who will be asked or required to respond, as well as a brief abstract: Primary: State, local and tribal government. Other: None. The National Drug-Related Death Reporting System collects scientifically verified drug-related death information from medical examiners' and coroners' offices that will be used to detect new and/or changing trends in drug abuse; provide local, regional, state and national trends of drug trafficking and abuse; provide information in support of drug scheduling actions; and better monitor the diversion of legitimately marketed drugs.

(5) An estimate of the total number of respondents and the amount of time estimated for an average respondent to respond/reply: It is estimated that the NDDRS will contain approximately 30% of the 3200 offices providing data to the system via direct web submission or direct data extraction. Data extraction will be executed via a computer interface program and will require less than 5 minutes of the respondent's time per month to complete. Data entry into the Web submission form is estimated to take 4 minutes per record, with a request for 50 records per month.

(6) An estimate of the total public burden (in hours) associated with the collection: The estimated total public burden associated with the Web submission form will be 19,200 hours annually, while bulk data extraction is estimated at 576 hours annually.

If additional information is required contact: Brenda E. Dyer, Department Clearance Officer, United States Department of Justice, Justice Management Division, Policy and Planning Staff, Patrick Henry Building, Suite 1600, 601 D Street NW., Washington, DC 20530.

Dated: April 27, 2005.
Brenda E. Dyer,
Department Clearance Officer, United States Department of Justice.

[FR Doc. 05-8680 Filed 4-29-05; 8:45 am]

BILLING CODE 4410-09-P